DEPARTMENT OF LABOR

Employment and Training Administration

[TA-W-73,488]

Hewlett Packard (HP) Global Product Development, Working On-Site at General Motors Corporation, Milford, MI; Notice of Revised Termination of Investigation

Pursuant to Section 223 of the Trade Act of 1974, as amended, an investigation was initiated in response to a petition filed on February 18, 2010 on behalf of workers of the subject firm.

On June 8, 2010, the Department issued a Notice of Termination of Investigation, stating that the petitioning group is part of the worker group covered by an on-going investigation (TA-W-72,851). On June 23, 2010, the Department issued a certification under TA-W-72,851 that did not include the worker group covered by TA-W-73,488.

To protect the interests of the petitioning group, the Department is revising the Notice of Termination and will conduct an investigation to determine whether workers of the subject firm are eligible to apply for Trade Adjustment Assistance.

Signed at Washington, DC, this 30th day of June, 2010.
Del Min Amy Chen,
Certifying Officer, Division of Trade Adjustment Assistance.

[FR Doc. 2010-17382 Filed 7-15-10; 8:45 am]

BILLING CODE 4510-FN-P